DEPARTMENT OF HOMELAND SECURITY

Coast Guard

33 CFR Part 165

[Docket Number USCG-2018-0845]

Safety Zone; Spaceport Camden, Woodbine, GA

AGENCY: Coast Guard, DHS.

ACTION: Request for comments.

SUMMARY: The Coast Guard is seeking comments from interested persons regarding a proposal to establish safety zones on the navigable waterways in the vicinity of the proposed Spaceport Camden, near Woodbine, Georgia during rocket tests, launches, and landing operations. The proposed safety zones would be necessary to protect personnel, vessels, and the marine environment from potential hazards created by rocket launches and landings, and by various rocket tests.

DATES: Your comments and related material must reach the Coast Guard on or before October 11, 2018.

ADDRESSES: You may submit comments identified by docket number USCG-2018-0845 using the Federal portal at http://www.regulations.gov. See the “Public Participation and Request for Comments” portion of the SUPPLEMENTARY INFORMATION section for further instructions on submitting comments.

FOR FURTHER INFORMATION CONTACT: If you have questions about this notice of inquiry, call or email LT Joseph Palmquist, Marine Safety Unit Savannah, U.S. Coast Guard; telephone 912-652-4353 x221, email joseph.b.palmquist@uscg.mil.

SUPPLEMENTARY INFORMATION:

I. Table of Abbreviations

CFR Code of Federal Regulations

DHS Department of Homeland Security

FR Federal Register

II. Background and Purpose

The Board of County Commissioners of Camden County, Georgia proposes to develop and operate a commercial space launch site, called Spaceport Camden, in an unincorporated area of Camden County, Georgia, approximately 11.5 miles due east of the town of Woodbine, Georgia. The site, near Floyd Creek, is on the coast, surrounded by salt marshes to the east and south, and the Satilla River to the north. In support of Spaceport Camden, the Board of County Commissioners of Camden County, Georgia requested that the Coast Guard establish safety zones which would be enforced during launch, landing, and rocket test activities at the site.

The Coast Guard establishes safety zones over areas of water and/or shore for safety or environmental purposes pursuant to the authority contained in 33 CFR part 165. A safety zone is a “. . . water area, shore area, or water and shore area to which, for safety or environmental purposes, access is limited to authorized persons, vehicles, or vessels.”

The applicants for Spaceport Camden propose up to 12 annual launches and landings during daylight hours, with one possible nighttime launch per year, of liquid-fueled, small to medium-large lift-class, orbital and suborbital vertical launch vehicles. In support of the proposed launches, the applicants for Spaceport Camden propose up to 12 static fire engine tests per year. Launch trajectories would vary from 83 to 115 degrees for vehicles up to and including medium-large lift class. Because the trajectory of these launches would take the rockets over various navigable waterways, creeks and tributaries, sections of land, and areas offshore, applicants are required to limit or restrict access to certain areas surrounding a rocket test/launch site based on specific hazard analysis. The applicant's request to establish safety zones during rocket launches, landings, and various tests is one element in meeting these safety requirements.

The range of potential safety zones for launch and landing activities encompasses an area which accounts for safety concerns associated with all potential launch trajectories. Individual launch safety zones could be smaller and depend on several factors unique to each event, such as actual trajectory, lift class, and payload. The range of potential safety zones for rocket tests encompasses a smaller area directly around the commercial space launch site. In all instances, the proposed safety zones would be necessary to safeguard persons, property, and the marine environment during rocket launches, landings, and rocket test activities.

Proposed Launch/Landing Safety Zone

The geographic area which encompasses all potential launch trajectories and accounts for the largest possible launch vehicle is defined by nine total corner points, identified below. Individual launch safety zones could be smaller dependent upon aspects unique to each launch activity, such as specific launch trajectories and the size of each launch vehicle:

1. In vicinity of the western portion of Shellbine Creek, south of Union Carbide Rd, Latitude: 30°54′17.0″ N, Longitude: 81°30′45.0″ W

2. In vicinity of Cabin Bluff, at the end of Union Carbide Rd, Latitude: 30°53′6.75″ N, Longitude: 81°30′56.5″ W

3. Cumberland River, just west of Cumberland Island, approximately 2 nautical miles (2.3 miles) north of Stafford Island, Latitude: 30°50′56.15″ N, Longitude: 81°28′39.4″ W

4. Plum Orchard—West side of Cumberland Island, approximately 1.5 nautical miles (1.7 miles) south of Table Point, Latitude: 30°51′22.12″ N, Longitude: 81°27′55.3″ W

5. Kings Bottom Trail Head—West side of Cumberland Island, approximately 1 nautical mile (1.15 miles) south of Table Point, Latitude: 30°51′58.53″ N, Longitude: 81°27′44.8″ W

6. Offshore—Approximately 13 nautical miles (15 miles) east of the southern portion of Cumberland Island; approximately 5 nautical miles (5.75 miles) northeast of St. Mary's entrance buoy, Latitude: 30°46′1.80″ N, Longitude: 81°10′15.5″ W

7. Offshore—Approximately 10 nautical miles (11.5 miles) east of Jekyll Point; approximately 3.5 nautical miles (4 miles) southeast of St. Simons Sound entrance buoy, Latitude: 31°01′33.65″ N, Longitude: 81°10′15.5″ W

8. St. Andrew Sound—600 yards south of Jekyll Point, Latitude: 31°00′23.6″ N, Longitude: 81°26′4.75″ W

9. In vicinity of Todd Creek, approximately 1 nautical mile (1.15 miles) west of Floyd Basin, Latitude: 30°57′38.0″ N, Longitude: 81°32′25.5″ W

Proposed Test Activity Safety Zone

The proposed safety zone for test activities encompasses an area within a one nautical mile (1.15 miles) radius in each direction from the location of the launch site pad. The location of the launch site: Latitude: 30°56′50.67″ N, Longitude: 81°30′23.34″ W.

III. Information Requested

In support of the applicant's request and to provide for the public safety in connection with potential operations at Spaceport Camden, the COTP Savannah is seeking comments from interested persons on the establishment of two proposed safety zones on the navigable waters surrounding Spaceport Camden, in the vicinity of Woodbine, Georgia. These safety zones would be enforced during rocket launches, landings, and various rocket tests. Launch/landing safety zones would support launch/landing activities while test site safety zones would support rocket test activities. Vessels, both commercial and recreational, would be prohibited from entering, transiting through, anchoring in, or remaining within the safety zone unless specifically authorized by the COTP Savannah or a designated representative.

For launch activities, the safety zone is anticipated to be in effect for approximately four to six hours for medium-large launchers, but not longer than 12 hours. For small launches, the safety zone is anticipated to be in effect for two to three hours. A safety zone for rocket test activity is anticipated to be in effect for approximately 60 minutes or less. The COTP Savannah or a designated representative would inform the public through broadcast notice to mariners of the enforcement periods of the safety zone.

IV. Public Participation and Request for Comments

We encourage you to submit comments through the Federal portal at http://www.regulations.gov. If your material cannot be submitted using http://www.regulations.gov, contact the person in the FOR FURTHER INFORMATION CONTACT section of this document for alternate instructions. In your submission, please include the docket number for this notice of inquiry and provide a reason for each suggestion or recommendation.

We accept anonymous comments. All comments received will be posted without change to http://www.regulations.gov and will include any personal information you have provided. For more about privacy and the docket, visit http://www.regulations.gov/privacyNotice.

Documents mentioned in this notice of inquiry as being available in the docket, and all public comments, will be in our online docket at http://www.regulations.gov and can be viewed by following that website's instructions.

We plan to hold a public meeting to receive oral comments on this notice of inquiry and will announce the date, time, and location in a separate document published in the Federal Register. If you signed up for docket email alerts mentioned in the paragraph above, you will receive an email notice when the public meeting notice is published and placed in the docket.

Dated: September 4, 2018.
N.C. Witt,
Commander, U.S. Coast Guard, Captain of the Port Savannah.

[FR Doc. 2018-19661 Filed 9-10-18; 8:45 am]

BILLING CODE 9110-04-P